DEPARTMENT OF COMMERCE

Bureau of Industry and Security

Action Affecting Export Privileges; Gold Technology Limited; Hero Peak Limited; Joanna Liu; Oriental Trading Corporation; Portson Trading Limited; Sunford Trading Limited and Zhenke International Trading Co. Ltd.

Order Temporarily Denying Export Privileges

Pursuant to Section 766.24 of the Export Administration Regulations (“EAR”), the Bureau of Industry and Security (“BIS”), U.S. Department of Commerce, through its Office of Export Enforcement (“OEE”), has requested that I issue an Order temporarily denying the export privileges under the EAR of the following:

(1) Gold Technology Limited, Flat 23C, 97 High Street, Hong Kong;

(2) Hero Peak Limited, Flat C, Block 4, 11/F Golden Bldg., 145 Fuk Wa Street, Sham Shui, Po, Kowloon, Hong Kong; and, Room D, 11/F, Fui Nam Building, 48-51 Connaught Road West, Hong Kong;

(3) Joanna Liu, Flat 23C, 97 High Street, Hong Kong;

(4) Oriental Trading Corporation, 1st Floor, Masco Plaza, Blue Area, P.O. Box 2879, Islamabad, Pakistan;

(5) Portson Trading Limited, Room D, 8/F, 217-223 Tung Choi Street, Mongkok, Kowloon, Hong Kong; and, Room 709 Wing Shan Tower, 173 Des Voeux Road Central, Hong Kong; and, Room 2208, 22/F, 118 Connaught Road West, Hong Kong;

(6) Sunford Trading Limited, Room 2208, 22/F, 118 Connaught Road West, Hong Kong;

(7) Zhenke International Trading Co. Ltd., Tianjin Port Free Trade Zone, Room 801, Gold Beauty Building, No. 88, Haibain 8 Road, TPFTZ, Tianjin, People's Republic of China;

(hereinafter collectively referred to as the “Respondents”).

In its request, BIS has presented evidence that indicates that the Respondents have conspired with others, known and unknown, to cause items subject to the EAR to be illegally exported to Pakistan, that they caused exports of items controlled for nuclear non-proliferation reasons to Pakistan with knowledge that violations of the EAR would occur, and that they took actions intended to evade the EAR.

I find the evidence presented by BIS demonstrates that the Respondents have in the past conspired to undertake acts that violate the EAR, that such violations have been deliberate and covert, and that there is a strong likelihood of future violations, particularly given the nature of the transactions and the elaborate steps that have been taken by Respondents to avoid detection by the U.S. government while knowing that their actions were in violation of the EAR. As such, a Temporary Denial Order (“TDO”) is needed to give notice to persons and companies in the United States and abroad that they should cease dealing with the Respondents in export transactions involving items subject to the EAR. Such a TDO is consistent with the public interest to preclude future violations of the EAR.

Accordingly, I find that a TDO naming the Respondents is necessary, in the public interest, to prevent an imminent violation of the EAR. This Order is issued on an ex parte basis without a hearing based upon BIS's showing of an imminent violation.

It is therefore ordered:

First, that the Respondents, at the addresses listed above (collectively the “Denied Persons”), may not, directly or indirectly, participate in any way in any transaction involving any commodity, software or technology (hereinafter collectively referred to as “item”) exported or to be exported from the United States that is subject to the Export Administration Regulations (“EAR”), or in any other activity subject to the EAR, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefitting in any way from any transaction involving any item exported or to be exported from the United States that is subject to the EAR, or in any other activity subject to the EAR.

Second, that no person may, directly or indirectly, do any of the following:

A. Export or reexport to or on behalf of the Denied Persons any item subject to the EAR;

B. Take any action that facilitates the acquisition or attempted acquisition by the Denied Persons of the ownership, possession, or control of any item subject to the EAR that has been or will be exported from the United States, including financing or other support activities related to a transaction whereby the Denied Persons acquires or attempts to acquire such ownership, possession or control;

C. Take any action to acquire from or to facilitate the acquisition or attempted acquisition from the Denied Persons of any item subject to the EAR that has been exported from the United States;

D. Obtain from the Denied Persons order in the United States any item subject to the EAR with knowledge or reason to know that the item will be, or is intended to be, exported from the United States; or

E. Engage in any transaction to service any item subject to the EAR that has been or will be exported from the United States and which is owned, possessed or controlled by the Denied Persons, or service any item, of whatever origin, that is owned, possessed or controlled by the Denied Persons if such service involves the use of any item subject to the EAR that has been or will be exported from the United States. For purposes of this paragraph, servicing means installation, maintenance, repair, modification or testing.

Third, that, after notice and opportunity for comment as provided in section 766.23 of the EAR, any other person, firm, corporation, or business organization related to any of the Respondents by affiliation, ownership, control, or position of responsibility in the conduct of trade or related services may also be made subject to the provisions of this Order.

Fourth, that this Order does not prohibit any export, reexport, or other transaction subject to the EAR where the only items involved that are subject to the EAR are the foreign-produced direct product of U.S.-origin technology.

Fifth, that in accordance with the provisions of Section 766.24(e) of the EAR, the Respondents may, at any time, appeal this Order by filing a full written statement in support of the appeal with the Office of the Administrative Law Judge, U.S. Coast Guard ALJ Docketing Center, 40 South Gay Street, Baltimore, Maryland 21202-4022.

Sixth, that in accordance with the provisions of Section 766.24(d) of the EAR, BIS may seek renewal of this Order by filing a written request not later than 20 days before the expiration date. The Respondents may oppose a request to renew this Order by filing a written submission with the Assistant Secretary for Export Enforcement, which must be received not later than seven days before the expiration date of the Order.

Seventh, that a copy of this Order shall be served on the Respondents and shall be published in the Federal Register.

Eighth, that this Order is effective upon publication in the Federal Register and shall remain in effect for 180 days.

Entered this 8th day of March, 2005.
Wendy L. Wysong,
Acting Assistant Secretary of Commerce for Export Enforcement.

[FR Doc. 05-4877 Filed 3-11-05; 8:45 am]

BILLING CODE 3510-DT-P